DEPARTMENT OF AGRICULTURE

Submission for OMB Review; Comment Request

November 6, 2013.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Economic Research Service

Title: Survey on Rural Community Wealth and Health Care Provision.

OMB Control Number: 0536—NEW.

Summary of Collection: Health care services is one of the largest and most rapidly growing industries in rural America, and adequate provision of health care services is critical for achieving economic development and improved well-being of rural people. In many rural communities, the health care services sector is the largest employer, and rapid growth in this sector is occurring and likely will continue, especially as the Baby-Boom generation retires. Provision of adequate health care services may be a key factor attracting retirees and other migrants to rural areas, contributing to rural growth and prosperity. Despite recent growth and potential for continued growth in this sector, many rural communities suffer from poor access to health care services, especially because of the limited supply of health care professionals. The authority to collect this information is under 7 U.S.C. 2204(a), 7 U.S.C. 2204(b) and 7 U.S.C. 2661.

Need and use of the Information: The Economic Research Service will collect information using a survey to address gaps in existing knowledge about the relationships between community development and rural health care provisions by investigating these issues from the perspective of members of rural communities, including health care providers and community leaders. The study will be based on a sample of 150 communities in three major regions of the country. The study will also collect information on how rural small towns attract and retain primary health care providers, considering the broad range of community assets and amenities that may attract providers. If the proposed information collection is not conducted, research and knowledge on the roles rural communities play in recruiting and retaining health care providers will remain limited.

Description of Respondents: Business or others for-profit; Not-for-profit institutions; State, Local or Tribal Government.

Number of Respondents: 2,850.

Frequency of Responses: Reporting: On occasion.

Total Burden Hours: 2,198.

Ruth Brown,
Departmental Information Collection Clearance Officer.

[FR Doc. 2013-27129 Filed 11-12-13; 8:45 am]

BILLING CODE 3410-18-P